DEPARTMENT OF COMMERCE

National Oceanic and Atmospheric Administration

RIN 0648-XD179

Endangered Species; File No. 18528

AGENCY: National Marine Fisheries Service (NMFS), National Oceanic and Atmospheric Administration (NOAA), Commerce.

ACTION: Issuance of permit.

SUMMARY: Notice is hereby given that the NMFS National Marine Mammal Laboratory (Responsible Party: John Bengtson, Ph.D.), 7600 Sand Point Way NE., Seattle, WA 98115-0070 has been issued a permit to take Steller sea lions (Eumetopias jubatus) for purposes of scientific research.

ADDRESSES: The permit and related documents are available for review upon written request or by appointment in the Permits and Conservation Division, Office of Protected Resources, NMFS, 1315 East-West Highway, Room 13705, Silver Spring, MD 20910; phone (301) 427-8401; fax (301) 713-0376.

FOR FURTHER INFORMATION CONTACT: Amy Sloan, (301) 427-8401.

SUPPLEMENTARY INFORMATION: On March 24, 2014, notice was published in the Federal Register (79 FR 15962) that a request for a scientific research permit to take Steller sea lions had been submitted by the above-named organization. The requested permit has been issued under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

Permit No. 18528-00 authorizes NMML to conduct research on the Western distinct population segment and Eastern distinct population segment of Steller sea lions in Alaska, Washington, Oregon, and California to measure population status, vital rates, foraging ecology, habitat requirements, and effects of natural and anthropogenic factors pursuant to fulfilling the NMFS' legal requirements under the MMPA and ESA. Steller sea lions may be exposed to aerial surveys by manned or unmanned aircraft and vessel and ground surveys. Researchers may capture, sample, hot brand or non-permanently mark, and instrument sea lions. Non-target species that may be taken incidentally include northern fur seals (Callorhinus ursinus) in Alaska, California sea lions (Zalophus californianus) and northern elephant seals (Mirounga angustirostris) in Washington, Oregon, and California, and harbor seals (Phoca vitulina) in all states. The permit expires June 30, 2019.

An environmental assessment (EA) was prepared analyzing the effects of the permitted activities on the human environment in compliance with the National Environmental Policy Act of 1969 (42 U.S.C. 4321 et seq.). Based on the analyses in the EA, NMFS determined that issuance of the permit would not significantly impact the quality of the human environment and that preparation of an environmental impact statement was not required. That determination is documented in a Finding of No Significant Impact (FONSI), signed on June 17, 2014.

Issuance of this permit, as required by the ESA, was based on a finding that such permit (1) was applied for in good faith, (2) will not operate to the disadvantage of such endangered or threatened species, and (3) is consistent with the purposes and policies set forth in section 2 of the ESA.

Dated: July 15, 2014.
Julia Harrison,
Chief, Permits and Conservation Division, Office of Protected Resources, National Marine Fisheries Service.

[FR Doc. 2014-16970 Filed 7-17-14; 8:45 am]

BILLING CODE 3510-22-P